DEPARTMENT OF COMMERCE

National Telecommunications and Information Administration

Proposed Information Collection; Comment Request; Broadband Subscription and Usage Supplement to the Census Bureau's Current Population Survey

AGENCY: National Telecommunications and Information Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 23, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to James McConnaughey, Senior Economist, Office of Policy and Analysis Development, NTIA, at (202) 482-1880, jmcConnaughey@ntia.doc.gov.

SUPPLEMENTARY INFORMATION:

I. Abstract

NTIA proposes to add eight questions to the Census Bureau's October 2010 Current Population Survey (CPS) in order to gather reliable data on broadband (also known as high-speed Internet) use by U.S. households. President Obama has established a national goal of universal, affordable broadband access for all Americans.¹ To that end, the Administration is working with Congress, the Federal Communications Commission (FCC), and other stakeholders to develop and advance economic and regulatory policies that foster broadband deployment and adoption. Current, systematic, and comprehensive data on broadband access and non-use by U.S. households is critical to allow policymakers not only to gauge progress made to date, but also to identify problem areas with a specificity that permits carefully targeted and cost effective responses.

¹ See http://www.whitehouse.gov/sites/default/files/20091217-recovery-act-investments-broadband.pdf (last viewed May 11, 2010).

The need for comprehensive broadband data has become more pressing. The General Accountability Office (GAO), NTIA, and the FCC recently issued reports noting the lack of useful broadband data for policymakers, and Congress passed legislation—the Broadband Data Improvement Act in 2008 and the American Recovery and Reinvestment Act in 2009—wholly or partly in response to such criticisms. The Organization for Economic Cooperation and Development (OECD) has ranked the United States a disappointing number 15 in household broadband access over the past several years despite a period of rapid growth in the technology's penetration. The OECD looks to Census data as an important input into their inter-country benchmark analyses. Modifying the October CPS to include NTIA's requested broadband data will allow the Commerce Department and NTIA to respond to congressional concerns, congressional directives, and to work with the OECD on its broadband methodologies with more recent data.

II. Method of Collection

Personal visits and telephone interviews, using computer-assisted telephone interviewing and computer-assisted personal interviewing.

III. Data

OMB Control Number: 0660-0021.

Form Number(s): None.

Type of Review: Regular submission (Reinstatement).

Affected Public: Individuals or households.

Estimated Number of Respondents: 54,000.

Estimated Time per Response: 90 seconds.

Estimated Total Annual Burden Hours: 1,350 hours.

Estimated Total Annual Cost to Public: $0.

IV. Requests for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will be a matter of public record.

Dated: May 19, 2010.
Gwellnar Banks,
Management Analyst, Office of the Chief Information Officer.

[FR Doc. 2010-12350 Filed 5-21-10; 8:45 am]

BILLING CODE 3510-60-P